DEPARTMENT OF HEALTH AND HUMAN SERVICES

Notice of Meeting of the Advisory Committee on Blood Safety and Availability

AGENCY: Office of the Secretary.

ACTION: Notice of meeting.

The Advisory Committee on Blood Safety and Availability will meet on Thursday, August 24, 2000, from 9 a.m. to 5 p.m. The meeting will take place at the Hyatt Regency Hotel on Capitol Hill, 400 New Jersey Ave., NW., Washington, DC 20001. The meeting will be entirely open to the public.

The Advisory Committee will review the role of various considerations in decision making related to new and existing blood safety measures.

Public comment will be solicited at the meeting. Public comment will be limited three minutes per speaker. Those who wish to have printed material distributed to Advisory Committee members should submit thirty (30) copies to the Executive Secretary prior to close of business August 11, 2000.

FOR FURTHER INFORMATION CONTACT: Stephen D. Nightingale, M.D., Executive Secretary, Advisory Committee on Blood Safety and Availability, Department of Health and Human Services, Office of Public Health and Safety, 200 Independence Avenue SW., Rm 736E, Washington, DC 20201. Phone (202) 690-5560 FAX (202) 690-7560 e-mail stephendnightingale@osophs.dhhs.gov.

Dated: May 23, 2000.
Stephen D. Nightingale,
Executive Secretary, Advisory Committee on Blood Safety and Availability.

[FR Doc. 00-13482 Filed 5-30-00; 8:45 am]

BILLING CODE 4160-17-M